DEPARTMENT OF ENERGY

Office of Energy Efficiency and Renewable Energy

Wind Industry Partnership Summit

AGENCY: Wind Energy Technologies Office, Office of Energy Efficiency and Renewable Energy, U.S. Department of Energy.

ACTION: Notice of the Wind Industry Partnership Summit.

SUMMARY: This notice announces that the Wind Energy Technologies Office (WETO) within the U.S. Department of Energy (DOE) intends to hold a Wind Industry Partnership Summit (“Summit”) in Washington, DC, on January 24-25, 2018. WETO invests in energy science research and development (R&D) activities that enable innovation, advance U.S. wind systems, reduce the cost of electricity, and accelerate the deployment of wind power. In an effort to ensure that DOE's research and development priorities continue to benefit the wind energy industry, WETO is hosting this summit to share innovative technologies that may be beneficial to your firm and engage industry leaders in a dialogue about the future of public research and development laboratory R&D investments.

DATES: DOE will host the Summit from 8:00 a.m. to 6:00 p.m. on Wednesday, January 24, 2018, and 8:30 a.m. to 1:00 p.m. on Thursday, January 25, 2018.

ADDRESSES: The Summit will be held at Kimpton Hotel Palomar, 2121 P St. NW, Washington, DC 20045.

FOR FURTHER INFORMATION CONTACT: Alexsandra Lemke, Office of Energy Efficiency and Renewable Energy, U.S. Department of Energy, 1000 Independence Ave. SW, Washington, DC 20585. Telephone: (720)-648-4381. Email: Alexsandra.lemke@EE.DOE.Gov.

SUPPLEMENTARY INFORMATION:

Background

The Wind Industry Partnership Summit will engage wind energy experts and industries to articulate wind power industry R&D needs, discuss capabilities of DOE National Laboratories, and provide guidance on how to engage DOE National Laboratories. This information will be summarized in a summary report capable of providing the wind energy industry and DOE with clarity on how the capabilities of its National Laboratories and other DOE Wind Program resources align with the perceived and prioritized R&D needs of the industry.

In November of 2015, the Executive Summit on Wind Research and Development was held in conjunction with the American Wind Energy Association (AWEA) Fall Symposium to identify and discuss priorities for industry-DOE Wind Program collaboration. This event will build on the successful 2015 Wind Industry Summit but provide a more focused agenda around particular technology areas as well as provide a setting for development of plans for wind power industry partnerships with DOE.

This Summit will focus on the intersection of wind power industry R&D and technology development needs with the capabilities of DOE National Laboratories and other participants in R&D initiated by the DOE Wind Program. The Wind Vision ¹ includes a roadmap outlining potential actions, in a non-prescriptive manner, for consideration by all wind power stakeholders. In the spring of 2017, a survey was developed around the Wind Vision to solicit input from industry, including developers, manufacturers, utilities, owner/operators, service providers, and consultants, among others, on the technology development needs of greatest importance to industry and where DOE support was deemed valuable. Informed by the Wind Vision roadmap and subsequent survey, summit sessions will address three categories of R&D activities: (1) Turbine Technology Innovation and Extreme-Scale Turbines, (2) The SMART Wind Plant, and (3) Grid-enhancing Wind Power Plants.

¹ https://energy.gov/eere/wind/wind-vision.

Public Participation

Although this meeting is primarily intended to be an information sharing event with design, consulting, assessment and operations professionals with experience in addressing the short and long-term challenges of wind energy development and operations, the event is open to the public based upon space availability. DOE anticipates that wind power professionals will share insights on the technological and science gaps that limit the growth of wind power capacity and generation and impede the enhancement of wind power technology and operations for greater value to the nation. As seating is limited, please RSVP to Alexsandra Lemke by January 3rd, 2018. DOE will also accept public comments as described above for purposes of better understanding the wind power industry and challenges associated with increased deployment. These comments may be submitted at Alexsandra.lemke@EE.DOE.Gov.

Participants should limit information and comments to those based on personal experience, individual advice, information, or facts regarding this topic. It is not the object of this session to obtain any group position or consensus from the meeting participants.

Information on Services for Individuals With Disabilities

Individuals requiring special accommodations at the meeting should contact Alexsandra.lemke@ee.doe.gov.

Following the meeting, a summary will be compiled by DOE; and a public summary of the 2017 survey results will also be distributed, the summary will be posted at wind.energy.gov.

Issued on December 12, 2017 in Washington, DC.
Valerie Reed,
Acting Director, Wind Energy Technologies Office, Office of Energy Efficiency and Renewable Energy.

[FR Doc. 2017-27069 Filed 12-14-17; 8:45 am]

BILLING CODE 6450-01-P